DEPARTMENT OF THE INTERIOR

Bureau of Land Management

[MT-924-1430-HN-003E; MTM 84984, MTM 86124]

Public Notice—Jurisdiction Transfer as Required by the Crow Boundary Settlement Act of 1994; Montana

AGENCY: Bureau of Land Management, Interior.

ACTION: Notice correction.

SUMMARY: This notice corrects the total acreage figure published in the Federal Register, 65 FR 59011, dated October 3, 2000, for the transfer of exclusive jurisdiction and administration of the surface estate from the Bureau of Land Management to the United States of America, Bureau of Indian Affairs, in trust for the Crow Indian Tribe.

On page 59011, column 3, the aggregate 12,465.32 acres is corrected to read “The areas described aggregate 12,431.59 acres in Big Horn and Yellowstone Counties, Montana.” This correction does not alter the effective date of the original notice.

FOR FURTHER INFORMATION CONTACT: Russell Sorensen, BLM Dillon Field Office, 1005 Selway Drive, Dillon, Montana 59725-9431, 406-683-8036.

Dated: January 8, 2001.
Thomas P. Lonnie,
Deputy State Director, Division of Resources.

[FR Doc. 01-1730 Filed 1-19-01; 8:45 am]

BILLING CODE 4310-$$-P